ADVISORY COUNCIL ON HISTORIC PRESERVATION

Notice of Meeting

AGENCY: Advisory Council on Historic Preservation.

ACTION: Notice of meeting.

SUMMARY: Notice is hereby given that the Advisory Council on Historic Preservation will meet on Friday, March 10, 2000. The meeting will be held in the Horizon Room, Pointe Hilton Hotel at Squaw Peak, 7677 North Sixteenth Street, Phoenix, Arizona, beginning at 8:30 a.m.

The Council was established by the National Historic Preservation Act of 1966 (16 U.S.C. Section 470) to advise the President and the Congress on matters relating to historic preservation and to comment upon Federal, federally assisted, and federally licensed undertaking having an effect upon properties listed in or eligible for inclusion in the National Register of Historic Places. The Council's members are the Architect of the Capitol; the Secretaries of the Interior, Agriculture, Housing and Urban Development, and Transportation; the Administrators of the Environmental Protection Agency and General Services Administration; the Chairman of the National Trust for Historic Preservation; the President of the National Conference of State Historic Preservation Officers; a Governor; a Mayor; a Native Hawaiian; and eight non-Federal members appointed by the President.

The agenda for the meeting includes the following:

I. Chairman's Welcome

II. Chairman's Report

III. Millennium Discussion

A. Follow up from Thursday's Discussion at Agua Fria National Monument—Action

B. Council Millennium Report on Federal Stewardship: Outline of Proposed Recommendations—Discussion

C. Proposed Executive Order on Federal Stewardship: Conceptual Outline—Action

IV. Proposed Council Policy Regarding Tribal Relations—Action

V. Executive Director's Report

VI. New Business

Proposal to Recognize Federal Preservation Policy Leaders—Action

VII. Adjourn

Note: The meetings of the Council are open to the public. If you need special accommodations due to a disability, please contact the Advisory Council on Historic Preservation, 1100 Pennsylvania Ave., NW., Room 809, Washington, D.C., 202-606-8503, at least seven (7) days prior to the meeting.

FOR FURTHER INFORMATION CONTACT: Additional information concerning the meeting is available from the Executive Director, Advisory Council on Historic Preservation, 1100 Pennsylvania Ave., NW., #809, Washington, DC 20004.

Dated: February 22, 2000.
John M. Fowler,
Executive Director.

[FR Doc. 00-4665 Filed 2-28-00; 8:45 am]

BILLING CODE 4310-10-M